INTERNATIONAL TRADE COMMISSION

[Inv. No. 337-TA-517]

In the Matter of Certain Shirts With Pucker-Free Seams and Methods of Producing Same—Notice of Decision Not To Review an Initial Determination Partially Terminating the Investigation on the Basis of Withdrawal of Certain Allegations in the Complaint

AGENCY: International Trade Commission.

ACTION: Notice.

SUMMARY: Notice is hereby given that the U.S. International Trade Commission has determined not to review an initial determination (ID) issued by the presiding administrative law judge (ALJ) in the above-captioned investigation partially terminating the investigation on the basis of withdrawal of certain allegations in the complaint.

FOR FURTHER INFORMATION CONTACT: Andrea Casson, Esq., Office of the General Counsel, U.S. International Trade Commission, 500 E Street, SW., Washington, DC 20436, telephone 202-205-3104. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on August 3, 2004, based on a complaint filed by TAL Apparel Limited, TALTECH Limited, and The Apparel Group Limited (collectively “TAL.”) 69 FR 47857 (August 6, 2004.) The complaint alleges violations of section 337 of the Tariff Act of 1930, 337 U.S.C. 1337, in the importation into the United States, sale for importation, and/or sale within the United States after importation of certain shirts with pucker-free seams that infringe claims 1, 4, 20 and 22 of U.S. Patent No. 5,568,779 (the ‘779 patent); claims 1, 11, 19 and 26 of U.S. Patent No. 5,590,615 (the ‘615 patent); claims 1, 3, 13 and 16 of U.S. Patent No. 5,713,292 (the ‘292 patent); and claims 16, 19, 35 and 38 of U.S. Patent No. 6,0079,343 (the ‘343 patent). The complaint names as respondents Esquel Apparel, Inc. and Esquel Enterprises Limited (collectively “Esquel”). On October 4, 2004, the Commission issued a notice of determination not to review an ID (Order No. 4) granting TAL's motion to amend the complaint and notice of institution to amend the complaint to add an additional related patent, U.S. Patent No. 5,775,394 (the ‘394 patent) to the investigation. 69 FR 60422 (Oct. 8, 2004).

On October 4, 2004 TAL moved to withdraw the allegations of infringement with respect to the ‘292, ‘343, and ‘394 patents. Neither Esquel nor the Commission investigative attorney opposed the motion. On November 29, 2004, the presiding administrative law judge issued an ID (Order No. 5) granting TAL's motion to partially terminate the investigation on the basis of withdrawal of all allegations of infringement relating to the claims of the ‘292 patent, the ‘343 patent, and the ‘394 patent. No petitions for review of the ID were filed.

This action is taken under the authority of section 337 of the Tariff Act of 1930, 19 U.S.C. 1337, and sections 210.21(a)(1) and 210.42(h) of the Commission Rules of Practice and Procedure, 19 CFR 210.21(a)(1) and 210.42(h).

By order of the Commission.
Issued: December 21, 2004.
Marilyn R. Abbott,
Secretary to the Commission.

[FR Doc. 04-28338 Filed 12-27-04; 8:45 am]

BILLING CODE 7020-02-P